FEDERAL TRADE COMMISSION

[File No. P085405]

Agency Information Collection Activities; Proposed Collection; Comment Request; Extension; Correction

AGENCY: Federal Trade Commission.

ACTION: Notice; correction.

SUMMARY: The Federal Trade Commission (“Commission”) published a document in the Federal Register of November 4, 2024, concerning its proposal to extend for an additional three years the Office of Management and Budget (“OMB”) clearance for information collection requirements contained in the rules and regulations under the Pay-Per-Call Rule. Shortly after publication, Commission staff learned the document contained an incorrect date. The Commission issues this correction to reflect the corrected date. The current information collection clearance expires on January 31, 2025, not January 30, 2024.

FOR FURTHER INFORMATION CONTACT: P. Connell McNulty, Attorney, Division of Marketing Practices, Bureau of Consumer Protection, Federal Trade Commission, (202) 326-2061, pmcnulty@ftc.gov.

SUPPLEMENTARY INFORMATION: The notice document submitted by Commission staff for publication contained a typographical error; specifically, the expiration date for the current OMB clearance was off by one year in the SUMMARY.

Correction

In notice FR Doc. 2024-25559 appearing at 89 FR 87575 in the Federal Register of Monday, November 4, 2024, make the following correction. On page 87576, in the last sentence of the SUMMARY section, the date of “January 30, 2024” is corrected to read “January 31, 2025”.

Dated: November 20, 2024.
April J. Tabor,
Secretary.

[FR Doc. 2024-27794 Filed 11-26-24; 8:45 am]

BILLING CODE 6750-01-P